DEPARTMENT OF ENERGY

Federal Energy Regulatory Commission

[Docket Nos. CP25-89-000, CP25-90-000]

Northwest Pipeline, LLC, Portland General Electric Company, B-R Pipeline, LLC, KB Pipeline Company; Notice of Schedule for the Preparation of an Environmental Assessment for the Kelso-Beaver Reliability Project

On February 27, 2025, Northwest Pipeline, LLC (Northwest) filed an application in Docket Nos. CP25-89-000 and CP25-90-000 requesting a Certificate of Public Convenience and Necessity pursuant to section 7(c) of the Natural Gas Act to acquire, construct, and operate certain natural gas pipeline facilities in Cowlitz County, Washington. The proposed project is known as the Kelso-Beaver Reliability Project (Project), and it would create 52,400 dekatherms per day (Dth/d) of westbound capacity from Northwest's system to the State of Oregon-regulated North Mist Storage facility (North Mist Project) and 131,000 Dth/d of eastbound capacity from the North Mist Project to Northwest's system on a pipeline Northwest proposes to purchase from Portland General Electric Company, KB Pipeline Company, and B-R Pipeline, LLC. ¹

¹ Portland General Electric Company, KB Pipeline Company, and B-R Pipeline, LLC also filed to abandon the KB Pipeline to Northwest in Docket No. CP25-90-000.

On March 13, 2025, the Federal Energy Regulatory Commission (Commission or FERC) issued its Notice of Application for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.² The EA will be issued for a 30-day comment period.

² For tracking purposes under the National Environmental Policy Act, the unique identification number for documents relating to this environmental review is EAXX-019-20-000-1746011608.

Schedule for Environmental Review

Issuance of EA—August 22, 2025

90-day Federal Authorization Decision Deadline ³—November 20, 2025

³ The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

The Project would consist of the following facilities:

• one new KB Compressor Station in Cowlitz County, Washington, consisting of one 5,500-horsepower electric-motor driven compressor unit and appurtenances; and

• modification of the existing KB Meter Station and existing aboveground facilities in Cowlitz County, Washington.

Background

On April 17, 2025, the Commission issued a “Notice of Scoping Period Requesting Comments on Environmental Issues for the Proposed Kelso-Beaver Reliability Project and Notice of Public Scoping Session” (Notice of Scoping). The Notice of Scoping was sent to affected landowners; Federal, State, and local government agencies; elected officials; environmental and public interest groups; Native American Tribes; other interested parties; and local libraries and newspapers. To date, the Commission has received comments from one landowner, three trade groups, and three firms that are customers of Northwest Pipeline, LLC. The primary issues raised by the commenters are the safety of the Project with respect to the region's geologic hazards, and support of the Project's potential benefits on the region's energy reliability. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-89 or CP25-90), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: May 1, 2025.
Carlos D. Clay,
Deputy Secretary.

[FR Doc. 2025-07951 Filed 5-6-25; 8:45 am]

BILLING CODE 6717-01-P